DEPARTMENT OF HEALTH AND HUMAN SERVICES

Administration for Children and Families

Submission for OMB Review; Comment Request

Title: Objective Work Plan (OWP) and Objective Progress Report (OPR).

OMB No.: 0970-0452.

Description: Content and formatting changes are being made to the OPR and OWP. The information in OPR is currently collected on quarterly basis to monitor the performance of grantees and better gauge grantee progress. The OWP is used by applicants when they submit their proposals and then by grantees to monitor their projects once the award is made by ANA. ANA has determined that the requirement for ANA grantees to submit information about the project activities on quarterly basis creates undue burden for Grantees. Therefore, ANA has reformatted the OPR to require Grantees submit semi-annual reports instead of quarterly report. This will reduce the administrative burden on Grantees, especially the smaller organizations. The majority of content being requested from the grantees essentially remain same except for the frequency of reporting.

OPR: The following are proposed content changes to the document: Grantee Information: Report Frequency—This section of OPR will be reformatted to request semi-annual or final project data instead of quarterly information. The other sections of the document with reference to “quarterly” information will be changed to reflect the shift from four-times a year reporting requirement to twice per year.

Objective Work Plan Update: Content remains the same. No changes are proposed for this section of the OPR.

Impact indicator: Current Status of Expected Results and Current Status of Expected Benefits which are reported separately on the OPR will be combined to read “Current Status of Expected Results and Benefits.” The content requested in this section is similar to the previous OPR without the added burden of having the reporting organizations provide the analysis that distinguish between `results and benefits”. Every section of the document will be rewritten to reflect this change.

OWP: ANA proposes to reformat the OWP (content is same) by swapping the Objective field with Problem Statement. In other words, this section will require respondents to begin with a concise statement about the problem the project is designed to address and will be followed by more details about the objectives of the project.

The two fields “Results Expected and Benefits Expected” will be combined into one field to read “Results and benefits Expected”. This will reduce redundancy and help reduce the burden on Grantees.

Respondents: Tribal Government, Native non-profit organizations, Tribal Colleges & Universities.

Annual Burden Estimates
Instrument | Number of respondents | Number of responses per respondent | Average burden hours per response | Total burden hours
OWP | 500 | 1 | 2 | 1000
OPR | 275 | 2 | 1 | 550

Estimated Total Annual Burden Hours: 1,550.

Additional Information: Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendation for the proposed information collection should be sent directly to the following: Office of Management and Budget, Paperwork Reduction Project, Fax: 202-395-7285, Email: OIRA_SUBMISSION@OMB.EOP.GOV, Attn: Desk Officer for the Administration for Children and Families.

Robert Sargis,
Reports Clearance Officer.

[FR Doc. 2015-03032 Filed 2-12-15; 8:45 am]

BILLING CODE 4184-01-P